ENVIRONMENTAL PROTECTION AGENCY

[EPA-R08-SFUND-2023-0366; FRL-11165-01-R8]

Proposed CERCLA Administrative Cashout Settlement for Peripheral Parties, Colorado Smelter Site, Pueblo, Colorado

AGENCY: Environmental Protection Agency (EPA).

ACTION: Notice of proposed settlement; request for public comment.

SUMMARY: In accordance with the requirements of the Comprehensive Environmental Response, Compensation, and Liability Act of 1980, as amended (“CERLCA”), notice is hereby given that a proposed CERCLA Cashout Settlement Agreement for Peripheral Parties (“Proposed Agreement”) associated with the Colorado Smelter Superfund Site, Pueblo, Colorado (“Site”) was executed by the U.S. Environmental Protection Agency (“EPA”), Region 8 and is now subject to public comment, after which EPA may modify or withdraw its consent if comments received disclose facts or considerations that indicate that the Proposed Agreement is inappropriate, improper, or inadequate.

DATES: Comments must be submitted on or before September 11, 2023.

ADDRESSES: The Proposed Agreement and additional background information relating to the agreement will be available upon request. Any comments or requests or for a copy of the Proposed Agreement should be addressed to Julie Nicholson, Enforcement Specialist, Superfund and Emergency Management Division, Environmental Protection Agency—Region 8, Mail Code 8SEM-PAC, 1595 Wynkoop Street, Denver, Colorado 80202, telephone number: (401) 714-6143, email address: nicholson.julie@epa.gov, and should reference the Colorado Smelter Superfund Site.

You may also send comments, identified by Docket ID No. EPA-R08-SFUND-2023-0366, to http://www.regulations.gov. Follow the online instructions for submitting comments.

FOR FURTHER INFORMATION CONTACT: Sarah Rae, Senior Assistant Regional Counsel, Office of Regional Counsel, Environmental Protection Agency, Region 8, Mail Code 8ORC-LEC, 1595 Wynkoop, Denver, Colorado 80202, telephone number: (303) 312-6839, email address: rae.sarah@epa.gov.

SUPPLEMENTARY INFORMATION: The Proposed Agreement would resolve potential EPA claims under section 107(a) of CERCLA, against 1000 South Santa Fe LLC and 1100 South Santa Fe LLC(“Settling Parties”) for EPA response costs at or in connection with the property located at 1101-1109 Santa Fe Avenue and 1045-1049 South Santa Fe Avenue, in Pueblo, Colorado (the “Property”), which is part of the Colorado Smelter Superfund Site. The settlement is estimated to be $646,100, plus an additional sum for interest on that amount calculated from the effective date through the date of payment (“Payment Amount”). Settling Parties will remit the Payment Amount to EPA upon the transfer of the Property or within three years of the effective date, whichever occurs earlier. The Proposed Settlement Agreement also provides a covenant not to sue or to take administrative action from the United States to the Settling Parties pursuant to sections 106 and 107(a) of CERCLA, 42 U.S.C. 9606 and 9607(a) with regard to Operable Unit 02 (OU2).

For thirty (30) days following the date of publication of this document, EPA will receive electronic comments relating to the Proposed Agreement. EPA's response to any comments received will be available for public inspection by request. Please see the ADDRESSES section of this document for instructions.

Ben Bielenberg,
Acting Division Director, Superfund and Emergency Management Division, Region 8.

[FR Doc. 2023-17174 Filed 8-9-23; 8:45 am]

BILLING CODE 6560-50-P